DEPARTMENT OF COMMERCE

International Trade Administration

Announcement of Performance Review Board Members

AGENCY: International Trade Administration, Department of Commerce.

ACTION: Notice.

SUMMARY: 5 CFR 430.310 requires agencies to publish notice of Performance Review Board appointees in the Federal Register before their service begins. This notice announces the names of new and existing members of the International Trade Administrations Performance Review Board.

FOR FURTHER INFORMATION CONTACT: Robert Montague, International Trade Administration, Office of Human Resources Management, at (202) 482-2850, Room 7414, Washington, DC 20230.

SUPPLEMENTARY INFORMATION: The purpose of the Performance Review Board is to review and make recommendations to the appointing authority on performance management issues such as appraisals, bonuses, pay level increases, and Presidential Rank Awards for members of the Senior Executive Service.

The Under Secretary for International Trade, Franklin L. Lavin, has named the following members of the International Trade Administration Performance Review Board:

1. Thomas A. McGinty, National Director (new).

2. Barbara E. Tillman, Senior Director (new).*

3. Seward L. Jones Jr., Director, Office of Multilateral Affairs (new).

4. Patricia A. Sefcik, Senior Director for Manufacturing (new).

5. Ronald A. Glaser, Human Resources Officer, Executive Secretary (new).

6. Sean M. Reilly, Chief of Staff, At-Large (new).

7. Matthew S. Borman, Deputy Assistant Secretary for Export Enforcement, Bureau of Industry and Security, Outside Reviewer (new).

* Joseph A. Spetrini, Deputy Assistant Director for Anti-Dumping and Countervailing Duty Policy and Negotiations, Alternate (new).

Dated: September 8, 2006.
Deborah Martin,
Acting, Human Resources Officer.

[FR Doc. E6-15200 Filed 9-11-06; 8:45 am]

BILLING CODE 3510-25-P